DEPARTMENT OF JUSTICE

Antitrust Division

Notice Pursuant to the National Cooperative Research and Production Act of 1993—Z-Wave Alliance, Inc.

Notice is hereby given that, on February 14, 2023, pursuant to section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Grenton Sp. Zo.o, Krakow, POLAND; and Hangzhou LifeSmart Technology Co. Ltd., Hangzhou, PEOPLE'S REPUBLIC OF CHINA have joined as parties to the venture.

Also, Shipshape Solutions Inc., Austin, TX; Simon Holding SL, Barcelona, SPAIN; Townsteel Inc., City of Industry, CA; Hangzhou Hikvision Digital Technology Co., Ltd., Hangzhou City, PEOPLE'S REPUBLIC OF CHINA; Haier US Appliance Solutions, Inc. dba GE Appliances, Louisville, KY; Viewqwest Pte Ltd., Singapore, SINGAPORE; ioXt Alliance, Newport Beach, CA; Hangzhou Lifesmart Technology Co., Ltd., Hangzhou, PEOPLE'S REPUBLIC OF CHINA; Farm Automation Australia Pty. Ltd., East Bendigo, AUSTRALIA; Philio Technology Corporation, New Taipei City, TAIWAN; ILEVIA SRL, Bassano del Grappa VI, ITALY; and Allvy Technology Integrators, LLC, Spring, TX have withdrawn as parties to the venture.

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on November 28, 2022. A notice was published in the Federal Register pursuant to section 6(b) of the Act on January 24, 2023 (88 FR 4212).

Suzanne Morris,
Deputy Director, Civil Enforcement Operations, Antitrust Division.

[FR Doc. 2023-06202 Filed 3-24-23; 8:45 am]

BILLING CODE P